DEPARTMENT OF THE INTERIOR

National Park Service

Notice of Boundary Revision: Catoctin Mountain Park

AGENCY: National Park Service, Department of the Interior.

ACTION: Notification of Boundary Revision.

SUMMARY: Notice is hereby given that the boundary of Catoctin Mountain Park in Frederick County, Maryland is modified to include one tract of land adjacent to the park. This revision is made to include privately owned property that the National Park Service wishes to acquire. The National Park Service has determined that inclusion of the tract within the park's boundary will make significant contributions to the purposes for which the park was established. After the United States' acquisition of the tract, the National Park Service will manage the property in accordance with applicable law.

FOR FURTHER INFORMATION CONTACT: National Park Service, Mel Poole, Superintendent, Catoctin Mountain Park, 6602 Foxville Road, Thurmont, Maryland 21788-1598.

DATES: The effective date of this boundary revision is the date of publication in the Federal Register.

SUPPLEMENTARY INFORMATION: Executive Order 7496, dated November 14, 1936, transferred all the real property acquired by the former Resettlement Administration, which included the former Catoctin Recreational Demonstration Area, to the Secretary of the Interior (Secretary), and authorized the Secretary, through the National Park Service, to administer the projects transferred by the aforementioned Executive Order. Section 7(c) of the Land and Water Conservation Fund Act, as amended, authorizes minor boundary revisions to areas within the National Park System after advising the House Committee on Natural Resources and the Senate Committee on Energy and Natural Resources of the proposed boundary amendment. The Committees were notified July 8, 2009. This action will add one tract comprising 63.8 acres of land, more or less, to Catoctin Mountain Park. The acquisition of this tract is intended to enhance the park's natural and ecological integrity and provide for greater recreational opportunities. The tract is identified as Parcels 96 and 243 on Frederick County, Maryland, Tax Map 6. The referenced tract is depicted on Catoctin Mountain Park land acquisition status map segment 01, having drawing number 841/92,001. This map is on file at the National Park Service, Land Resources Program Center, National Capital Region, and at the Office of the Superintendent, Catoctin Mountain Park.

Note: When contacting this office or any government office, before including your address, phone number, e-mail address or other personal identifying information in your comment, you should be aware that your entire comment—including your personal identifying information—may be made publicly available at any time. While you can ask us in your comment to withhold your personal identifying information from public review, we cannot guarantee that we will be able to do so.

Dated: July 17, 2009.
Margaret O'Dell,
Regional Director, National Capital Region.

[FR Doc. E9-20434 Filed 8-24-09; 8:45 am]

BILLING CODE 4312-59-P